DEPARTMENT OF TRANSPORTATION

Federal Aviation Administration

FAA Advisory Circular 187, Flight Standards Service Schedule of Charges Outside the United States

AGENCY: Federal Aviation Administration (FAA), Department of Transportation (DOT).

ACTION: Notice of availability of agency guidance.

SUMMARY: This notice announces the availability of FAA Advisory Circular (AC) 187, Flight Standards Service Schedule of Charges Outside the United States. The FAA has revised AC 187 to reflect updated schedule of charges for services of Federal Aviation Administration (FAA) Flight Standards Service (AFS) aviation safety inspectors (ASI) outside the United States.

DATES: The guidance in AC 187-1P became effective October 1, 2020.

FOR FURTHER INFORMATION CONTACT: Tish Thompkins, International Programs and Policy and Division, Federal Aviation Administration, 600 Independence Avenue SW, Washington, DC 20591; 202-267-0996, tish.thompkins@faa.gov.

SUPPLEMENTARY INFORMATION: On April 19, 1995, the FAA amended Title 14 of the Code of Federal Regulations (14 CFR) part 187, Fees for Certification Services and Approvals Performed Outside the United States (60 FR 19628, April 19, 1995), which established the methodology for determining these charges. In this rule, the FAA stated it would publish these fees in an AC. Refer to part 187 appendix A(l).

The FAA reviews the actual costs incurred in the services listed in Appendix 1 at the beginning of each fiscal year. The FAA will do this using the same fee methodology described in part 187 appendix A. The FAA will amend the schedule of charges on an annual basis to either increase or decrease fees, as needed. The FAA will publish each amended schedule in the Federal Register and as a revision to this AC. AC 187 may be found at https://www.faa.gov/regulations_policies/advisory_circulars/index.cfm/go/document.information/documentID/1038213.

Issued in Washington, DC.
Robert C. Carty,
Deputy Executive Director, Flight Standards Service, AFX-2.

[FR Doc. 2020-22519 Filed 10-9-20; 8:45 am]

BILLING CODE 4910-13-P